DEPARTMENT OF AGRICULTURE

Animal and Plant Health Inspection Service

9 CFR Part 94

[Docket No. 00-111-3]

Foot-and-Mouth Disease Status of Uruguay

AGENCY: Animal and Plant Health Inspection Service, USDA.

ACTION: Final rule.

SUMMARY: We are adopting as a final rule, with one change, our July 2001 interim rule that amended the regulations governing the importation of certain animals, meat, and other animal products by removing Uruguay from the list of areas considered free of rinderpest and foot-and-mouth disease. The interim rule also removed Uruguay from the list of regions declared free of those diseases, but that are subject to certain restrictions because of their proximity to or trading relations with regions affected with rinderpest or foot-and-mouth disease. The interim rule was necessary because the existence of foot-and-mouth disease had been confirmed in 18 Departments in Uruguay. Because there have been no occurrences of rinderpest in Uruguay, this final rule adds Uruguay to the list of regions considered free of that disease.

EFFECTIVE DATE: December 13, 2007.

FOR FURTHER INFORMATION CONTACT: Dr. Gary Colgrove, Director, Sanitary Trade Issues Team, National Center for Import and Export, VS, APHIS, 4700 River Road, Unit 38, Riverdale, MD 20737-1231; (301) 734-3276.

SUPPLEMENTARY INFORMATION:

Background

The regulations in 9 CFR part 94 (referred to below as the regulations) govern the importation of specified animals and animal products into the United States in order to prevent the introduction of various animal diseases including rinderpest, foot-and-mouth disease (FMD), African swine fever, classical swine fever, swine vesicular disease, and bovine spongiform encephalopathy. These are dangerous and destructive communicable diseases of ruminants and swine. Section 94.1 of the regulations lists regions of the world that are declared free of rinderpest or free of both rinderpest and FMD. Under § 94.11 of the regulations, some of those regions are subject to additional restrictions because of their proximity to or trading relationships with rinderpest and FMD-affected regions.

In an interim rule effective October 1, 2000, and published in the Federal Register on December 13, 2000 (65 FR 77771-77773, Docket No. 00-111-1), we amended the regulations by removing Artigas, a region in northern Uruguay, from the list of regions considered to be free of rinderpest and FMD because FMD had been confirmed there. Prior to the effective date of that interim rule, the entire country of Uruguay was listed in §§ 94.1 and 94.11 as a region considered free of rinderpest and FMD.

We solicited comments concerning the interim rule for 60 days ending February 12, 2001, and received two comments by that date.

However, on April 23, 2001, FMD was confirmed in the Uruguayan department of Soriano. Subsequently, new outbreaks of the disease were confirmed in the departments of Artigas, Canelones, Colonia, Duranzo, Flores, Florida, Lavalleja, Maldonado, Paysandu, Rio Negro, Rivera, Rocha, Salto, San Jose, Tacuarembo, and Treinta y Tres.

In response to the spread of FMD within Uruguay, we issued an interim rule effective April 2, 2001, and published in the Federal Register on July 13, 2001 (66 FR 36695-36697, Docket No. 00-111-2), that amended the regulations by removing Uruguay from the list of regions considered free of rinderpest and FMD and from the list of regions that, although rinderpest and FMD-free, are subject to certain restrictions on the importation of meat and other animal products.

Comments on the interim rule of July 13, 2001, were required to be received on or before September 11, 2001. We did not receive any comments.

Although we removed Uruguay from the list of regions considered to be free of rinderpest and FMD, we recognized in that interim rule that Uruguay's Ministry of Livestock, Agriculture, and Fisheries had responded immediately to the detection of the disease by imposing restrictions on the movements of ruminants and swine from the affected areas and by initiating several measures to eradicate the disease. For this reason, we stated that we intended to reassess the situation in accordance with the standards of the World Organization for Animal Health (OIE) at a future date.

Since that time, we have undertaken a reassessment of Uruguay's disease status. While we acknowledge the many efforts Uruguay has made to control and eradicate FMD within its departments since the interim rule was published, we have received no data suggesting that our disease classification of the country is in error, or supporting the return of Uruguay to FMD-free status.

However, we note that while it was necessary to remove Uruguay from the list in § 94.1(a)(2) of regions that are declared to be free of both FMD and rinderpest, the disease situation that led to that action involved only FMD. Therefore, it is possible to include Uruguay on the list of regions declared to be free of rinderpest. Accordingly, this final rule amends § 94.1(a)(3) by adding Uruguay to the list of regions declared to be free of rinderpest.

Therefore, for the reasons given in the interim rule and in this document, we are adopting the interim rule as a final rule, with the change discussed in this document.

This final rule also affirms the information contained in the interim rule concerning Executive Order 12866 and the Regulatory Flexibility Act, Executive Order 12988, and the Paperwork Reduction Act.

Further, for this action, the Office of Management and Budget has waived its review under Executive Order 12866.

List of Subjects in 9 CFR Part 94

Animal diseases, Imports, Livestock, Meat and meat products, Milk, Poultry and poultry products, Reporting and recordkeeping requirements.

Accordingly, the interim rule amending 9 CFR part 94 that was published at 66 FR 36695-36697 on July 13, 2001, is adopted as a final rule with the following change:

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

1. The authority citation for part 94 continues to read as follows:

Authority: 7 U.S.C. 450, 7701-7772, 7781-7786, and 8301-8317; 21 U.S.C. 136 and 136a; 31 U.S.C. 9701; 7 CFR 2.22, 2.80, 371.4.

2. In § 94.1, paragraph (a)(3) is revised to read as follows:

§ 94.1 Regions where rinderpest or foot-and-mouth disease exists; importations prohibited.

(a) * * *

(3) The following regions are declared to be free of rinderpest: Namibia, the Republic of South Africa, and Uruguay.

* * * * *

Done in Washington, DC, this 7th day of November 2007.
Kevin Shea,
Acting Administrator, Animal and Plant Health Inspection Service.

[FR Doc. E7-22091 Filed 11-9-07; 8:45 am]

BILLING CODE 3410-34-P